DEPARTMENT OF HOUSING AND URBAN DEVELOPMENT

[Docket No. FR-5997-N-33]

30-Day Notice of Proposed Information Collection: Delta Community Capital Initiative

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: August 7, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW., Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A. The Federal Register notice that solicited public comment on the information collection for a period of 60 days was published on April 7, 2017 at 82 FR 17027.

A. Overview of Information Collection

Title of Information Collection: Delta Community Capital Initiative.

OMB Approval Number: 2506-0200.

Type of Request: Revision of a currently approved collection.

Form Number: SF 424; HUD 424CB; HUD 424-CBW; SF-LLL; HUD 2990; HUD 2991; HUD 2993; HUD 2994A; HUD 27061; and HUD 27300.

Description of the need for the information and proposed use: The purpose of this submission is for the application for the Delta Community Capital Initiative grant process. Information is required to rate and rank competitive applications and to ensure eligibility of applicants for funding. Semi-annual reporting is required to monitor grant management.

Respondents (i.e. affected public):50.

Estimated Number of Respondents: 50.

Estimated Number of Responses: 50.

Frequency of Response: 1.

Average Hours per Response: .76.

Total Estimated Burdens: 527.5.

Estimated Burden
Instruments | Respondents | Annual responses | Total responses | Burden per response | Total annual hours | Hourly rate ** | Burden cost per instrument
HUD-424CB | 50 | 1 | 50 | 2.60 | 130.00 | $31.82 | $4,136.60
HUD-424CBW-I | 50 | 1 | 50 | 3.20 | 160.00 | 31.82 | 5,091.20
HUD-2990 | 50 | 1 | 50 | 0.00 | 0.00 | 00.00 | 00.00
HUD-2991 | 50 | 1 | 50 | 0.00 | 0.00 | 00.00 | 00.00
HUD-2993 | 50 | 1 | 50 | 0.00 | 0.00 | 00.00 | 00.00
HUD-2994A | 50 | 1 | 50 | 0.50 | 25.00 | 31.82 | 790.50
HUD-27061 | 50 | 1 | 50 | 1.25 | 62.50 | 31.82 | 1,975.25
HUD-27300 | 50 | 1 | 50 | 3.00 | 150.00 | 31.82 | 4,773.00
Total |  |  |  | 1.32 | 527.50 | 31.82 | 16,766.82

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 21, 2017.
Anna P. Guido,
Department Reports Management Officer, Office of the Chief Information Officer.

[FR Doc. 2017-14298 Filed 7-6-17; 8:45 am]

BILLING CODE 4210-67-P